ENVIRONMENTAL PROTECTION AGENCY

[FRL-7881-3]

Partnership To Promote Innovation in Environmental Practice, Notice of Availability and Request for Proposals

AGENCY: Environmental Protection Agency (EPA).

ACTION: Notice of availability of solicitation for proposals.

SUMMARY: The Environmental Protection Agency's National Center for Environmental Innovation (NCEI) is giving notice of the availability of its solicitation for proposals from institutions that are interested in promoting innovations that can improve environmental results from State and Federal programs. EPA is seeking proposals to explore innovative environmental policies practices and to support mechanisms by which new approaches can be shared and discussed by federal and state environmental practitioners. The goal is to increase understanding of new approaches, to facilitate use of proven concepts, and to encourage more innovation in environmental programs. EPA anticipates awarding one cooperative agreement under this solicitation. The amount of the award will be $300,000 for a period of up to four years. Eligible recipients include States, territories, Indian Tribes, interstate organizations, intrastate organizations, and possessions of the U.S., including the District of Columbia, public and private universities and colleges, hospitals, laboratories, other public or private nonprofit institutions, and individuals. Nonprofit organizations described in section 501(c)(4) of the Internal Revenue Code that engage in lobbying activities as defined in section 3 of the Lobbying Disclosure Act of 1995 are not eligible to apply. For profit organizations are generally not eligible for funding.

DATES: Interested applicants have until April 21, 2005 to submit a proposal.

ADDRESSES: Due to heightened security requirements, there may be substantial delays in mail service to EPA Hence, EPA strongly encourages applicants to send applications electronically. Electronic applications must be sent to State_Innovation_Grants@epa.gov. Applicants choosing to submit paper applications should mail one original and two copies to the EPA contact, Sandy Germann. Please also note that the delivery address varies depending on whether you are using regular mail or using a delivery service (e.g., Federal Express, Courier, UPS). If you are using a delivery service, send it to Sandy Germann, U.S. EPA, U.S. EPA, Room 645C, 4930 Page Road, Research Triangle Park, NC 27703. If you are sending the application via regular mail, send it to Sandy Germann, U.S. EPA, MC C604-02, Research Triangle Park, NC 27711.

FOR FURTHER INFORMATION CONTACT: Sandy Germann, U.S. EPA, MC C604-02, RTP, NC 27711, (919 541-3061), germann.sandy@epa.gov.

SUPPLEMENTARY INFORMATION: EPA's National Center for Environmental Innovation (NCEI) promotes new ways to achieve better environmental results. NCEI's work includes developing and testing new approaches, evaluating how well new approaches work, and sharing and applying the lessons learned to improve the efficiency and effectiveness of environmental programs. Consistent with EPA's Innovation Strategy (http://www.epa.gov/innovation/strategy.htm), NCEI is especially interested in supporting State innovation. In 2000, EPA sponsored the first State/EPA Environmental Innovation Symposium to showcase environmental innovations that can improve environmental results in State programs. A second symposium was held in 2003. (Information about these events can be found at http://www.epa.gov/innovation/symposia.htm.) Evaluations from these events, along with discussion with State commissioners, indicate that States have a strong interest in additional symposia that allow them to share experiences and results from innovative environmental programs and policies.

While EPA will have participants at the symposia, the primary goal of this project is to identify and highlight environmental innovations that can help States learn about new ways to achieve better environmental results. To this end, the project should be designed to:

—Identify and showcase successful, innovative projects and programs that have accomplished important environmental results at the Federal, state, and local levels;

—Facilitate information transfer so that proven approaches can be used by other States and federal programs to achieve environmental results;

—Stimulate ideas for new innovative initiatives and pilot projects;

—Enable discussion about specific issues facing innovators, such as how to replicate successful innovations on a larger scale (e.g., from a pilot project at one facility to a program for the entire sector) or in other programs (e.g., from use in the air program to the water program), and how to sustain innovations over time so that projects continue evolving to reflect new knowledge, experience, and/or technology;

—Expand the network of State and federal environmental practitioners who are interested in applying and advancing new approaches to environmental protection.

The work will involve planning up to two symposia over a four-year period that bring together State and EPA environmental practitioners to share information and engage in a dialogue about experiences and policy issues related to innovative approaches. Planning will be done by a Steering Committee consisting of representatives from the recipient, EPA and States. The Steering Committee, which will have a majority State membership, will assist with analyzing environmental innovations, developing symposia agendas, identifying appropriate speakers and presenters, and promoting the event within their respective organizations.

EPA is interested in supporting the first symposia in late 2005, and a second symposium approximately two years later. In addition to organizing the symposia, the recipient will compile all information presented at the symposia on a publicly available web site. These resources will help extend the learning that occurs at the symposia to other State and EPA employees, as well as other interested stakeholders.

For the full solicitation, please visit: www.epa.gov/innovation/symposia.

Dated: February 18, 2005.
Elizabeth A. Shaw,
Director, Office of Environmental Policy Innovation.

[FR Doc. 05-4261 Filed 3-4-05; 8:45 am]

BILLING CODE 6560-50-P